DEPARTMENT OF EDUCATION

NCES System Clearance for Cognitive, Pilot, and Field Test Studies; ED-2016-ICCD-0040; Correction

AGENCY: Department of Education.

ACTION: Correction Notice.

SUMMARY: On April 5, 2016 the U.S. Department of Education published a 60-day comment period notice in the Federal Register (Page 19586, Column 2 and 3; Page 19587, Column 1) seeking public comment for an information collection entitled, “NCES System Clearance for Cognitive, Pilot, and Field Test Studies.” The number of responses and burden hours were incorrect. The responses are 600,000 and the burden hours are 240,000. The projected increase in burden is due to an increased projection of the need for developmental studies related to plans for beginning new studies and redesign activities for existing studies, including transitions to more online surveys and assessments in the next three years.

The Acting Director, Information Collection Clearance Division, Office of the Chief Privacy Officer, Office of Management, hereby issues a correction notice as required by the Paperwork Reduction Act of 1995.

Dated: April 21, 2016.
Kate Mullan,
Acting Director, Information Collection Clearance Division, Office of the Chief Privacy Officer, Office of Management.

[FR Doc. 2016-09630 Filed 4-25-16; 8:45 am]

BILLING CODE 4000-01-P